DEPARTMENT OF ENERGY

Federal Energy Regulatory Commission

[Docket No. CP01-79-000]

ANR Pipeline Co.; Notice of Availability of the Environmental Assessment for the Proposed Badger Pipeline Project

September 12, 2001.

The staff of the Federal Energy Regulatory Commission (FERC or Commission) has prepared an environmental assessment (EA) on the natural gas pipeline facilities proposed by ANR Pipeline Company (ANR) in the above-referenced docket.

The EA was prepared to satisfy the requirements of the National Environmental Policy Act. The staff concludes that approval of the proposed project, with appropriate mitigating measures, would not constitute a major Federal action significantly affecting the quality of the human environment.

The EA assesses the potential environmental effects of the construction and operation of the proposed Badger Pipeline Project facilities including:

• About 12.8 miles of 20-inch-diameter loop along ANR's existing 10- and 12-inch-diameter Racine Laterals between Mainline Valve (MLV) No. 8 (milepost (MP) 0.0) in Burlington Township, Racine County and the existing Somers Meter Station (MP 12.8) in Paris Township, Kenosha County, Wisconsin;

• About 9.5 miles of 20-inch-diameter lateral would be located adjacent to existing rights-of-way (gas pipelines, Wisconsin Electric Power Company's (WEPCo) 345 kV electric transmission line, and the Chicago, Milwaukee, St. Paul and Pacific Railroad) between the Somers Meter Station (MP 12.8) and the planned Badger Generating Plant (MP 22.3) in Pleasant Prairie Township, Kenosha County; and

• Aboveground facilities consisting of a pig trap/launcher assembly at the tie-in of the proposed pipeline on the existing MLV No. 8 site (MP 0.0); a mainline valve and crossover piping at the existing Somers Meter Station (MP 12.8); and a meter station, valve, and pig trap/receiver assembly to be located at the planned Badger Generating Plant site (MP 22.3).

ANR proposed the Badger Pipeline Project to provide up to 210,000,000 cubic feet per day of gas to Badger Generating Company, LLC's (Badger) proposed 1,050 megawatt gas-fired power plant to be constructed in the Village of Pleasant Prairie in Kenosha County, Wisconsin.

The EA has been placed in the public files of the FERC. A limited number of copies of the EA are available for distribution and public inspection at: Federal Energy Regulatory Commission, Public Reference and Files Maintenance Branch, 888 First Street, NE., Room 2A, Washington, DC 20426, (202) 208-1371.

Copies of the EA have been mailed to Federal, state and local agencies, public interest groups, interested individuals, newspapers, and parties to this proceeding.

Any person wishing to comment on the EA may do so. To ensure consideration prior to a Commission decision on the proposal, it is important that we receive your comments before the date specified below. Please carefully follow these instructions to ensure that your comments are received in time and properly recorded:

• Send an original and two copies of your comments to: Secretary, Federal Energy Regulatory Commission, 888 First St., NE., Room 1A, Washington, DC 20426;

• Label one copy of the comments for the attention of the Gas Group 1, PJ11.1.

• Reference Docket No. CP01-79-000; and

• Mail your comments so that they will be received in Washington, DC on or before October 12, 2001.

Comments, protests and interventions may be filed electronically via the Internet in lieu of paper. See, 18 CFR 385.2001(a)(1)(iii) and the instructions on the Commission's web site under the “e-Filing” link.

Comments will be considered by the Commission but will not serve to make the commentor a party to the proceeding. Any person seeking to become a party to the proceeding must file a motion to intervene pursuant to Rule 214 of the Commission's Rules of Practice and Procedures (18 CFR 385.214).¹ Only intervenors have the right to seek rehearing of the Commission's decision.

¹ Interventions may also be filed electronically via the Internet in lieu of paper. See the previous discussion on filing comments electronically.

Affected landowners and parties with environmental concerns may be granted intervenor status upon showing good cause by stating that they have a clear and direct interest in this proceeding which would not be adequately represented by any other parties. You do not need intervenor status to have your comments considered.

Additional information about the proposed project is available from the Commission's Office of External Affairs, at (202) 208-1088 or on the FERC Internet website (www.ferc.gov) using the “RIMS” link to information in this docket number. Click on the “RIMS” link, select “Docket#” from the RIMS Menu, and follow the instructions. For assistance with access to RIMS, the RIMS helpline can be reached at (202) 208-2222.

Similarly, the “CIPS” link on the FERC Internet website provides access to the texts of formal documents issued by the Commission, such as orders, notices, and rulemakings. From the FERC Internet website, click on the “CIPS” link, select “Docket#” from the CIPS menu, and follow the instructions. For assistance with access to CIPS, the CIPS helpline can be reached at (202) 208-2474.

David P. Boergers,
Secretary.

[FR Doc. 01-23202 Filed 9-17-01; 8:45 am]

BILLING CODE 6717-01-P